DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Current Population Survey (CPS), November Voting & Registration Supplement.

Form Number(s): None. The CPS is conducted by interviewers using laptop computers.

Agency Approval Number: 0607-0466.

Type of Request: Reinstatement, with change, of a previously approved collection.

Burden: 1,400 hours.

Number of Respondents: 56,000.

Avg Hours Per Response: 1.5 minutes.

Needs and Uses: The purpose of this request for review is to obtain Office of Management and Budget (OMB) clearance for the Current Population Survey (CPS) 2004 Voting and Registration Supplement to be conducted in conjunction with regular CPS interviewing during November 2004. This supplement continues the biennial collection of data concerning voting and registration that has been asked periodically since 1964. This supplement is sponsored by the U.S. Census Bureau.

The Voting and Registration data yields statistics on voter (and nonvoter) characteristics and current voter trends. These data enable policymakers to keep issues up to date, such as changes in participation in the election process by demographic characteristics such as age, sex, race, ethnicity, and educational attainment.

This clearance will also cover an identical voting and registration supplement to be conducted in November 2006.

The primary purpose of collecting these data from the November 2004 CPS supplement is to relate demographic characteristics (age, sex, race, education, occupation, and income) to voting and nonvoting behavior. Federal, state, and local election officials; college institutions; political party committees; research groups; and other private organizations use the voting and registration data collected in the November 2004 CPS supplement. Election officials use these data to formulate policies relating to the voting and registration process. Data obtained on duration of residence will allow policymakers and researchers to better determine the relationships between other demographic characteristics and voting behavior. Previous studies have shown that the voting and registration characteristics of recent movers differ greatly from those of nonmovers. By collecting and presenting data at the state level, we will also obtain information on the effectiveness of increased voter registration drives in different regions.

Affected Public: Individuals or households.

Frequency: Biennially.

Respondent's Obligation:

Legal Authority: Title 13 U.S.C., Section 182.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: August 23, 2004.
Madeleine Clayton,
Management Analyst, Office of the Chief Information Officer.

[FR Doc. 04-19576 Filed 8-26-04; 8:45 am]

BILLING CODE 3510-07-P